DEPARTMENT OF ENERGY

Federal Energy Regulatory Commission

[Docket No. RP15-238-000]

Mountaineer Gas Company v. Washington Gas Light Company; Notice of Complaint

Take notice that on December 2, 2014, pursuant to Rules 203 and 206 of the Federal Energy Regulatory Commission's (Commission) Rules of Practice and Procedure, 18 CFR 385.203 and 385.206, Mountaineer Gas Company (Complainant), filed a formal complaint against Washington Gas Light Company (Respondent), alleging that the terms and conditions of service applicable to firm transportation service the Respondent currently provides to the Complainant is unjust, unfair, and discriminatory. Particularly, Complainant requests the Commission require Respondent to amend its Firm Interstate Service Operating Statement and the underlying Firm Interstate Transportation Service Agreement to include a standard meter error provision, as more fully explained in the complaint.

The Complainant certifies that copies of the complaint were served on the contacts of the Respondent as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on December 22, 2014.

Dated: December 3, 2014.
Kimberly D. Bose,
Secretary.

[FR Doc. 2014-29051 Filed 12-10-14; 8:45 am]

BILLING CODE 6717-01-P